DEPARTMENT OF HEALTH AND HUMAN SERVICES

Centers for Disease Control and Prevention

National Center for Health Statistics (NCHS), Classifications and Public Health Data Standards Staff, Announces the Following Meeting

Name: ICD-9-CM Coordination and Maintenance Committee meeting.

Time and Date: 9 a.m.-5:30 p.m., September 15-16, 2010.

Place: Centers for Medicare and Medicaid Services (CMS) Auditorium, 7500 Security Boulevard, Baltimore, Maryland.

Status: Open to the public.

Purpose: The ICD-9-CM Coordination and Maintenance (C&M) Committee will hold the last meeting of the 2010 calendar year cycle on Wednesday and Thursday September 15-16, 2010. The C&M meeting is a public forum for the presentation of proposed modifications to the International Classification of Diseases, Ninth-Revision, Clinical Modification. There will be telephone lines available from 9 a.m. until 12:30 p.m. and 2:15 p.m. until 5:30 p.m. (Wednesday) and 9 until 12:30 and 1:30 until 3:15 p.m. (Thursday) for those who are unable to attend the meeting in person. The toll-free dial-in number for external participants is 1-800-837-1935; participant codes for the respective sessions are: 888801009, 88803327, 88805029, and 88808234. Participants attending by telephone do not need to formally register for the meeting. Dial-in lines are available on a first come, first served basis.

Matters To Be Discussed: Tentative agenda items include:

September 15, 2010

ICD-10 Topics (9-12:30)

Freeze update

General Equivalence Maps (GEMs)*

MS-DRG Impact Analysis

V28.0 ICD-10 MS-DRGs

ICD-10-CM/ICD-10-PCS updates

* Section 10109(c) of the Patient Protection and Affordable Care Act and the Reconciliation Act of 2010 (PPACA) requires the Secretary of Health and Human Services (HHS) to task the C&M Committee to convene a meeting before January 1, 2011, to receive stakeholder input regarding the crosswalk between the Ninth and Tenth Revisions of the International Classification of Diseases (ICD-9, and ICD-10, respectively), posted to the CMS Web site at http://www.cms.gov/ICD10, for the purpose of making appropriate revisions to said crosswalk.

Section 10109(c) further states that any revised crosswalk be treated as a code set for which a standard has been adopted by the Secretary, and that revisions to this crosswalk be posted to the CMS Web site.

The C&M Committee will use the first half of the first day of the September C&M Committee meeting, 9 a.m. to 12:30 p.m. Wednesday, September 15, 2010, to fulfill the above-referenced PPACA requirements for this meeting to be held prior to January 1, 2011, and receive public input regarding the above-referenced crosswalk revision.

No other meeting will be convened by the C&M Committee for this purpose. Interested parties and stakeholders should be prepared to submit their written comments and other relevant documentation at the meeting, or no later than November 12, 2010 to the following addresses:

ICD-9-CM procedure topics:

Contrast Dye Removal

Endovascular partial occlusion of abdominal aorta

Endovascular Intracranial Aneurysm Embolization

Fenestrated AAA Endovascular Graft

Implantation of an Anti-Microbial Envelope

Pulmonary Artery Pressure Monitoring

Addenda (procedures)

September 16, 2010

Corticobasal degeneration

Complication of stem cell transplant

Gastroparesis

Glaucoma

Hepatopulmonary syndrome

Interstitial lung diseases

Malnutrition

Mesh erosion

Pseudobulbar affect

Transfusion transmitted infections

Genitourinary conditions

Addenda (diagnoses)

Contact Person for Additional Information: Donna Pickett, Medical Systems Administrator, Classifications and Public Health Data Standards Staff, NCHS, 3311 Toledo Road, Room 2337, Hyattsville, Maryland 20782, e-mail dfp4@cdc.gov, telephone 301-458-4434 (diagnosis), Mady Hue, Health Insurance Specialist, Division of Acute Care, CMS, 7500 Security Blvd., Baltimore, Maryland 21244, e-mail marilu.hue@cms.hhs.gov, telephone 410-786-4510 (procedures).

Note: CMS and NCHS will no longer be providing paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm.

Notice: Because of increased security requirements CMS has instituted stringent procedures for entrance into the building by non-government employees. Persons without a government I.D. will need to show an official form of picture I.D. (such as a drivers license), and sign-in at the security desk upon entering the building.

Those who wish to attend a specific ICD-9-CM C&M meeting in the CMS auditorium must submit their name and organization in addition to the meeting visitor list. Those wishing to attend the September 15-16, 2010 meeting must submit their name and organization by September 10, 2010 for inclusion on the visitor list. This visitor list will be maintained at the front desk of the CMS building and used by the guards to admit visitors to the meeting. Those who attended previous ICD-9-CM C&M meetings will no longer be automatically added to the visitor list. You must request inclusion of your name prior to each meeting you attend.

Register to attend the meeting on-line at: http://www.cms.hhs.gov/apps/events/.

For questions about the registration process please contact Mady Hue (410-786-4510 or Marilu.hue@cms.hhs.gov).

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: September 8, 2010.
Elaine L. Baker,
Director, Management Analysis and Services Office, Centers for Disease Control and Prevention.

[FR Doc. 2010-23092 Filed 9-15-10; 8:45 am]

BILLING CODE 4160-18-P